FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012293-001.

Title: Maersk/MSC Vessel Sharing Agreement.

Parties: A.P. Moller-Maersk A/S trading under the name of Maersk Line; and MSC Mediterranean Shipping Company S.A.

Filing Party: Wayne Rohde, Esq.; Cozen O'Connor; 1627 I Street NW., Suite 1100; Washington, DC 20006.

Synopsis: The amendment would expand the geographic scope to include France, ports on the Black Sea, and Indonesia.

Agreement No.: 012297.

Title: ECNA/ECSA Vessel Sharing Agreement.

Parties: Hamburg Sud; Alianca Navegacao e Logistica Ltds. E CIA; Norasia Container Lines Limited; Companhia Libra de Navegacao; Compania Libra de Navegacion Uruguay S.A.; Hapag-lloyd AG; and Nippon Yusen Kabushiki Kaisha.

Filing Party: Wayne Rohde, Esq.; Cozen O'Connor; 1627 I Street NW., Suite 1100; Washington, DC 20006.

Synopsis: The agreement would authorize the parties to share vessels in the trade between the U.S. East Coast, on the one hand, and countries on the East Coast of South America, on the other hand.

Agreement No.: 012298.

Title: Crowley/Seaboard Dominican Republic Space Charter and Sailing Agreement.

Parties: Crowley Caribbean Services, LLC; and Seaboard Marine, Ltd.

Filing Party: Wayne Rohde, Esq.; Cozen O'Connor; 1627 I Street NW., Suite 1100; Washington, DC 20006.

Synopsis: The agreement would authorize the parties to share vessels in the trade between Port Everglades, FL and Rio Haina, Dominican Republic.

By Order of the Federal Maritime Commission.
Dated: September 26, 2014.
Rachel E. Dickon,
Assistant Secretary.

[FR Doc. 2014-23380 Filed 9-30-14; 8:45 am]

BILLING CODE 6730-01-P